FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on continuing information collections, as required by the Paperwork Reduction Act of 1995 (44 U.S.C. chapter 35). Currently, the FDIC is soliciting comments on full clearance of the following collection currently approved by OMB on an emergency basis: Temporary Liquidity Program (OMB Control No. 3064-0166).

DATES: Comments must be submitted on or before May 11, 2009.

ADDRESSES: Interested parties are invited to submit written comments to the FDIC by any of the following methods. All comments should refer to the name of the collection:

• http://www.FDIC.gov/regulations/laws/federal/notices.html.

• E-mail: comments@fdic.gov. Include the name of the collection in the subject line of the message.

• Mail: Leneta G. Gregorie (202-898-3719), Counsel, Room F-1064, Federal Deposit Insurance Corporation, 550 17th Street, NW., Washington, DC 20429.

• Hand Delivery: Comments may be hand-delivered to the guard station at the rear of the 17th Street Building (located on F Street), on business days between 7 a.m. and 5 p.m.

A copy of the comments may also be submitted to the OMB desk officer for the FDIC: Office of Information and Regulatory Affairs, Office of Management and Budget, New Executive Office Building, Washington, DC 20503.

FOR FURTHER INFORMATION CONTACT: Leneta G. Gregorie at the address identified above.

SUPPLEMENTARY INFORMATION:

Proposal To Obtain Full Clearance of the Following Collection of Information Currently Approved on an Emergency Basis

Title: Temporary Liquidity Guarantee Program.

OMB Number: 3064-0166.

Estimated Number of Respondents:

Initial report of amount of senior unsecured debt—14,400.

Subsequent reports on amount of senior unsecured debt—14,400.

Opt-out/opt-in notice—1,600.

Notice of debt guarantee—9,150.

Notice of transaction account guarantee—8,000.

Notice of issuance of debt guarantee—13,650.

Notice of termination of participation—300.

Debt-holder guarantee claims—2,300.

Bankruptcy POC/evidence of POC—300.

Request for increase in debt guarantee limit—1,000.

Request for increase in presumptive debt guarantee limit—100.

Request to opt-in to debt guarantee program—100.

Request by affiliate to participate in debt guarantee program—50.

Application to issue mandatory convertible debt: 25.

Frequency of Response:

Initial report of amount of senior unsecured debt—once.

Subsequent reports on amount of senior unsecured debt—4.

Opt-out/opt-in notice—once.

Notice of debt guarantee—once.

Notice of transaction account guarantee—once.

Notice of issuance of debt guarantee—26 to 250.

Notice of termination of participation—once.

Debt-holder guarantee claims—once.

Bankruptcy POC/evidence of POC—once.

Request for increase in debt guarantee limit—once.

Request for increase in presumptive debt guarantee limit—once.

Request to opt-in to debt guarantee program—once.

Request by affiliate to participate in debt guarantee program—once.

Application to issue mandatory convertible debt—5.

Affected Public: FDIC-insured depository institutions, thrift holding companies, bank and financial holding companies.

Estimated Time per Response:

Initial report of amount of senior unsecured debt—1 hour.

Subsequent reports on amount of senior unsecured debt—1 hour.

Opt-out/opt-in notice—0.5 hour.

Notice of debt guarantee—1 to 2 hours.

Notice of transaction account guarantee—2 hours.

Notice of issuance of debt guarantee—0.5 to 3 hours.

Notice of termination of participation—3 hours.

Debt-holder guarantee claims—3 hours.

Bankruptcy POC/evidence of POC-1 hour.

Request for increase in debt guarantee limit—2 hours.

Request for increase in presumptive debt guarantee limit—2 hours.

Request to opt-in to debt guarantee program—1 hour.

Request by affiliate to participate in debt guarantee program—2 hours.

Application to issue mandatory convertible debt—1 hour.

Total Annual Burden: 2,201,625 hours.

General Description of Collection: This collection includes reporting, recordkeeping and disclosure requirements associated with the FDIC's Temporary Liquidity Guarantee (TLG) Program. TLG Program is comprised of (1) a guarantee by the FDIC of all unsecured, unsubordinated debt of insured depository institutions, their bank holding companies, financial holding companies, and thrift holding companies (other than unitary thrift holding companies) issued between October 14, 2008, and June 30, 2009, with guarantees expiring not later than June 30, 2012, and with a system of fees to be paid by these institutions for such guarantees; and (2) a 100 percent guaranty of non-interest bearing transaction accounts held by insured depository institutions until December 31, 2009 (FDIC guarantees). The TLG program is designed to strengthen confidence and encourage liquidity in the banking system in order to ease lending to creditworthy businesses and consumers. The reporting, recordkeeping and disclosure requirements apply to eligible entities participating in either the Debt Guarantee Component of the program or the Deposit Guarantee Component or both. The information obtained allows the FDIC to monitor its exposure under the TLG Program and determine assessments for entities participating in the program. The required disclosures ensure that depositors, debt holders, and the general public are on notice as to which entities are participating in the program, the extent to which deposits in noninterest-bearing transaction accounts are FDIC-insured, and whether newly-issued senior unsecured debt is guaranteed by the FDIC.

Request for Comment

Comments are invited on: (a) Whether this collection of information is necessary for the proper performance of the FDIC's functions, including whether the information has practical utility; (b) the accuracy of the estimates of the burden of the information collection, including the validity of the methodologies and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for full clearance of this collection. All comments will become a matter of public record.

Dated at Washington, DC, this __ day of March, 2009.
Federal Deposit Insurance Corporation.
Valerie Best,
Assistant Executive Secretary.

[FR Doc. E9-5230 Filed 3-10-09; 8:45 am]

BILLING CODE 6714-01-P